DEPARTMENT OF AGRICULTURE

Forest Service

Alaska Region, (R-10), Chugach National Forest, Glacier and Seward Ranger Districts, Commercially Guided Helicopter Skiing

AGENCY: Forest Service, USDA.

ACTION: Notice of intent to prepare an environmental impact statement.

SUMMARY: The Chugach National Forest proposes to authorize a 5-year special use permit to Chugach Powder Guides, Inc. (CPG) for guided helicopter skiing on National Forest lands on the Kenai Peninsula near Girdwood and Seward, Alaska. Guided helicopter skiing would be permitted on 13 zones totaling 342,700 acres on the Glacier and Seward Ranger Districts. The season of use would be from approximately December 15 through April 20. Three helicoptors would be used and 2,400 client days would be authorized.

DATES: Comments concerning the scope of the analysis must be received by June 6, 2003. The draft environmental impact statement is expected in July 2003 and the final environmental impact statement is expected in September 2003.

ADDRESSES: Send written comments to Teresa Paquet, Interdisciplinary Team Leader, Glacier Ranger District, P.O. Box 129, Girdwood, Alaska 99587-0129, or FAX comments to 907-783-2094, or send by e-mail to: tpaquet@fs.fed.us. For further information contact Teresa Paquet, Interdisciplinary Team Leader, Glacier Ranger District, P.O. Box 129, Girdwood, Alaska 99587-0129.

FOR FURTHER INFORMATION CONTACT: Teresa Paquet, Interdisciplinary Team Leader, Glacier Ranger District, P.O. Box 129, Girdwood, Alaska 99587-0129.

SUPPLEMENTARY INFORMATION:

Purpose and Need for Action

The Forest Service is responding to a request by a commercial guide service to provide helicopter skiing on the Kenai Peninsula. Chugach National Forest lands on the Kenai Peninsula provide many winter recreational opportunities including snowmobiling, cross-country skiing, ski touring, fixed-wing supported skiing, and helicopter supported skiing. Heli-skiing requires untracked powder snow, several vertical runs per day and a backcountry experience. Many areas on the Kenai have excellent physical characteristics (terrain and snow conditions) for helicopter skiing. There is not enough suitable terrain on private lands to meet this need. The proposed areas are near a major population center, Anchorage, which is needed to support such an operation. This proposal would help meet the public demand for quality, safe, guided helicopter skiing. Guided helicopter skiing would help meet the Chugach National Forest Revised Land and Resource Management Plan's goals to (1) maintain quality settings for motorized recreation opportunities and (2) provide helicopter access for skiing at appropriate locations.

CPG has submitted an application for a 5-year special use permit for outfitting/guiding helicopter skiing on National Forest lands on the Kenai Peninsula, near Girdwood and Seward Alaska. The applicant requested the use of 13 zones (342,700 acres) during the winter ski season (December 15, through April 20). Eight of these zones have been used by CPG under temporary permits and five are additional exploratory zones. The eight core zones are: Glacier-Winner, West Twentymile, North Twentymile, East Twentymile, Placer-Skookum, Grandview, and Bench Peak. The five exploratory zones are Seattle Creek, Moose Creek, Ptarmigan, Snow River and Mount Ascension. The project area is bordered on the west by the Hope Highway, Seward Highway, and the Forest boundary near Resurrection River, on the north by the Forest boundary, on the east by the divide between the Kenai Peninsula and Prince William Sound and non-National Forest land, and on the south by the Forest boundary and non-National Forest land.

Proposed Action

The Chugach National Forest proposes to authorize a 5-year special use permit to Chugach Powder Guides, Inc. (CPG) for guided helicopter skiing on National Forest lands on the Kenai Peninsula near Girdwood and Seward, Alaska. Guided helicopter skiing would be permitted on 13 use areas totaling 342,700 acres on the Glacier and Seward Ranger Districts. The season of use would be from approximately December 15 through April 20. Three helicopters would be used and 2,400 client days per season (1,800 core and 600 exploratory) would be authorized.

Possible Alternatives

Alternative 1. No Action.

Alternative 2. Submitted by proponent. 1,800 core clients days 600 exploratory client days. All use areas. All staging areas and 30 cycles (take off and landing) per staging area per day. Timing restrictions in Bench Creek West.

Alternative 3. Proponent's proposal with design features to address noise and user conflicts. 1,800 core and 600 exploratory client days. No use in Seattle Creek West, Moose Creek West and Ptarmigan West. No staging area in Moose Pass. 30 cycles per staging area per day. Timing restriction in Seattle Creek East and Bench Peak West.

Alternative 4. Designed to maintain current helicopter activity. No use in Seattle Creek, Ptarmigan, Moose Creek, Mount Ascension and Snow River. 1,200 client days. No staging areas in Moose Pass. 30 cycles per day per staging area. Timing restrictions in Bench Peak West.

Alternative 5. Designed to minimize user conflicts. 1,800 core and 600 exploratory client days. No use in Seattle Creek West, Seattle Creek East, Moose Creek West, Ptarmigan West, and Bench Peak West. No staging area in Moose Pass. 30 cycles per staging area per day.

Alternative 6. Designed to minimize noise and social impacts in Moose Pass. 1,800 core and 300 exploratory client days. No use in Moose Creek, Ptarmigan, Bench Peak West, Seattle Creek West, and Seattle Creek East. No staging area in Moose Pass. 30 cycles per staging area per day, except Girdwood Airstrip which would have 20 cycles per day.

Responsible Officials

Michael R. Kania, District Ranger, Seward Ranger District, 334 Fourth Ave., P.O. Box 390, Seward, Alaska 99664-0390; and James M. Fincher, District Ranger, Glacier Ranger District, Forest Station Road, PO Box 129, Girdwood, Alaska 99587-0129.

Nature of Decision To Be Made

The decision to be made from this analysis is whether or not to issue a 5-year permit to Chugach Powder Guides for helicopter skiing on the Glacier and Seward Ranger Districts, and if so, for what areas, for what period of time and with what restrictions.

Scoping Process

Public Involvement was initiated in September 2002 with the Chugach National Forest Schedule of Proposed Actions. On October 31, 2002, a letter describing the proposed action and seeking public comment was mailed to over 800 interested individuals, businesses and environmental groups. Public meetings, to share information and gather comments regarding the proposal, were held at Seward and Moose Pass on November 22, 2002, and at Hope and Girdwood on December 12, 2002. Additional public meetings, to share information and gather comments regarding draft Alternatives were held at Moose Pass on April 29, 2003, Seward on April 30, 2003, and at Hope and Girdwood on May 1, 2003.

Preliminary Issues

1. Wildlife. Helicopter operations and skiing activities can disturb wildlife. Factors include the distance to disturbance, sensitivity of individual species to noise and level of habituation. Excessive disturbance can cause harm to overall health, growth rates and reproductive success. Some of the species with the greatest potential to be impacted in the permit area are brown bear, wolverine, mountain goat, and Dall sheep.

2. Impacts on communities. Lifestyles of rural community residents can be negatively impacted by increases in permitted recreation activities either incrementally over a number of years or by sudden increases in the number of helicopter trips. The noise of helicopters during flights could affect the quality of life for residents in the following areas: Girdwood, Sunrise, Moose Pass, and Seward.

3. Impacts to recreationists. Heli-skiing activities could negatively impact backcountry ground-based recreationists' experience by helicopter noise disturbance, increasing avalanche hazards and their sudden presence in areas that ground-based recreationists have expended effort to reach.

4. Wilderness recommendations. Permitted landings in roadless areas could affect future Wilderness recommendations.

5. Wildlife cumulative effects. Cumulative effects of various recreation activities (motorized and non-motorized) can have detrimental effects on wildlife use of habitat in alpine areas.

Permits or Licenses Required

USDA Forest Service Special Use Permit.

Comment Requested

This notice of intent continues the scoping process which guides the development of the environmental impact statement. Comments specific to the proposal and draft Alternatives are being sought.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions, (Vermont Yankee Nuclear Power Corp. v. NRDC, 435 U.S. 519, 553 (1978)). Also, environmental objections that could be raised at the draft environmental impact statement stage but that are not raised until after completion of the final environmental impact statement may be waived or dismissed by the courts, (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the June 6, 2003, comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 5, 2003.
Gerald F. Xavier,
Acting Forest Supervisor.

[FR Doc. 03-11871 Filed 5-14-03; 8:45 am]

BILLING CODE 3410-11-P